DEPARTMENT OF HOUSING AND URBAN DEVELOPMENT

[Docket No. FR-4800-FA-03]

Announcement of Funding Awards for the Rural Housing and Economic Development Program; Fiscal Year 2003

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Rural Housing and Economic Development Program. This announcement contains the names of the awardees and the amounts of the awards made available by HUD.

FOR FURTHER INFORMATION CONTACT: Jackie L. Williams, Ph.D., Director, Office of Rural Housing and Economic Development, Office of Community Planning and Development, 451 7th Street, SW., Room 7137, Washington, DC 20410; telephone (202) 708-2290 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Rural Housing and Economic Development program was authorized by the Department of Veterans Affairs, Housing and Urban Development and Independent Agencies Appropriations Act of 1999. The competition was announced in the SuperNOFA published April 25, 2003. Applications were rated and selected for funding on the basis of selection criteria contained in that notice.

The Catalog of Federal Domestic Assistance number for this program is 14.250.

The Rural Housing and Economic Development Program is designed to build capacity at the State and local level for rural housing and economic development and to support innovative housing and economic development activities in rural areas. Eligible applicants are local rural non-profit organizations, community development corporations, federally recognized Indian tribes, and State housing finance agencies. The funds made available under this program were awarded competitively, through a selection process conducted by HUD.

Prior to the rating and ranking of this year's applications, Eastern Eight Community Development in Johnson City, Tennessee was awarded $134,000, Fort Belknap Indian Community in Harlem, Montana was awarded $66,782, and Haliwa Saponi Indian Tribe in Hollister, North Carolina was awarded $89,421 as a result of funding errors during the previous year's funding. For the Fiscal Year 2003 competition, a total of $24,590,272 was awarded to 87 projects nationwide.

In accordance with section 102(a)(4)(C) of the Department of Housing and Urban Development Reform Act of 1989 (103 Stat. 1987, 42 U.S.C. 3545), the Department is publishing the grantees and amounts of the awards in Appendix A to this document.

Dated: December 17, 2003.
Roy A. Bernardi,
Assistant Secretary for Community, Planning and Development.

Appendix A.—Fiscal Year 2003 Funding Awards for Rural Housing and Economic Development Program
Applicant | City | State | Award dollars
Innovative Grants
Arkansas Human Development Corporation | Little Rock | AR | 400,000
Navajo Partnership for Housing, Inc. | Saint Michaels | AZ | 400,000
PPEP Microbusiness and Housing Development | Tucson | AZ | 400,000
International Sonoran Desert Alliance | Ajo | AZ | 400,000
Nogales Main Street Association | Tucson | AZ | 389,927
Arizona Department of Housing | Phoenix | AZ | 400,000
Tule River CDC | Porterville | CA | 400,000
North Fork CD Council | North Fork | CA | 400,000
Westside Housing and Economic Network, Inc | Fresno County | CA | 400,000
I-5 Social Services Corporation | Fresno | CA | 400,000
Walking Shield American Indian Society | Tustin | CA | 400,000
SW Georgia United Empowerment Zone | Vienna | GA | 400,000
Homeward, Inc. | Clarion | IA | 400,000
Homestead Affordable Housing, Inc. | Nortonville | KS | 400,000
HPCHDA, Inc. | Hazard | KY | 400,000
Kentucky Highlands Investment Corporation | London | KY | 400,000
Frontier Housing, Inc. | Morehead | KY | 400,000
Macon Ridge CDC | Ferriday | LA | 202,400
Four Directions Development Corporation | Orono | ME | 400,000
Midwest MN CDC | Detroit Lakes | MN | 400,000
Chippewa Cree Housing Authority | Box Elder | MT | 400,000
The Heritage Capital Fund | Wolf Point | MT | 399,848
Lumbee Regional Development Association | Pembroke | NC | 379,328
Hollister R.E.A.C.H | Hollister | NC | 190,750
Community Developers of Beaufort-Hyde | Belhaven | NC | 397,796
Ho-Chunk CDC | Walthill | NE | 400,000
Tierra Del Sol Housing Corporation | Anthony | NM | 399,625
Rural Opportunities, Inc. | Rochester | NY | 400,000
Portage Area Development Corporation | Ravenna | OH | 400,000
Appalachian Center for Economic Networks | Athens | OH | 306,964
Little Dixie Community Action Agency | Hugo | OK | 386,207
Community First Fund | Lancaster | PA | 400,000
Ceiba Housing and Economic Development Corporation | Ceiba | PR | 397,900
Oglala Sioux Tribe Partnership, Inc. | Pine Ridge | SD | 400,000
Oglala Sioux Lakota Housing | Pine Ridge | SD | 400,000
Oti Kaga, Inc. | Eagle Butte | SD | 400,000
Carey Counseling Center, Inc. | Paris | TN | 400,000
Buffalo Valley, Inc. | Hobenwald | TN | 400,000
Douglas-Cherokee Economic Authority, Inc | Morristown | TN | 400,000
Organizacion Progresiva de San Elizario | San Elizario | TX | 400,000
El Paso Empowerment Zone Corporation | El Paso | TX | 400,000
Alianza Para El Desarrollo Community, Inc. | El Paso | TX | 374,321
ACCION Texas | San Antonio | TX | 400,000
Habitat for Humanity of Laredo, Inc. | Laredo | TX | 400,000
Community Development Corporation of Brownsville | Brownsville | TX | 400,000
Center for Economic Opportunity, Inc. | San Juan | TX | 400,000
Telamon Corporation | Richmond | VA | 399,659
Washington State Housing Finance Commission | Seattle | WA | 387,872
WISC Wisconsin Department of Commerce | Madison | WI | 400,000
Southern Appalachian Labor School | Kincaid | WV | 400,000
Capacity Building Grants
Upper Sand Mountain United Methodist | Sylvania | AL | 150,000
Arizona Border Health Foundation | Tucson | AZ | 150,000
Fresno West Coalition for Economic Development | Fresno | CA | 150,000
Region 9 Economic Development District of SW CO | Durango | CO | 148,925
Empowerment Alliance of SW Florida-CDC | Immokalle | FL | 147,728
Housing Partners, Inc. | Albany | GA | 150,000
Crisp Area Habitat for Humanity | Cordele | GA | 150,000
Area Committee to Improve Opportunity | Athens | GA | 61,275
Georgia Legal Services Program, Inc. | Atlanta | GA | 150,000
Partnership Housing Affordable to Society | Bainbridge | GA | 150,000
Area 12 Council on Aging and Community | Dillsboro | IN | 150,000
County Community Housing Development Corporation | Whitley City | KY | 150,000
People's Self-Help Housing, Inc. | Vanceburg | KY | 150,000
Sunrise County Economic Council | Machias | ME | 150,000
Genesis Fund | Damariscotta | ME | 39,000
Life Renewal Ministry, Inc. | Starkville | MS | 149,296
Human Resource Development Council of District | Bozeman | MT | 150,000
SER De New Mexico, Inc. | Albuquerque | NM | 150,000
South Central Council of Governments, Inc | Elephant Butte | NM | 138,000
Mexicano Land Education and Conservation Trust | Espanola | NM | 128,640
Community Unified Today, Inc. | Geneva | NY | 150,000
Adams Brown County Economic Opportunities | Georgetown | OH | 140,572
Confederated Tribes of the Umatilla | Pendleton | OR | 150,000
Confederated Tribes of Coos | Coos Bay | OR | 150,000
Options for Southern Oregon, Inc. | Grants Pass | OR | 108,625
Community Action Southwest | North Apollo | PA | 148,988
Lakota Fund | Kyle | SD | 150,000
Four Bands Community Fund, Inc. | Eagle Butte | SD | 100,000
West Tennessee Legal Services | Jackson | TN | 150,000
Amigos Del Valle, Inc. | Mission | TX | 150,000
Texas Rural Legal Aid | Austin | TX | 150,000
Rural Housing Development Corporation | Provo | UT | 150,000
Snoqualmie Indian Tribe | Carnation | WA | 140,000
Makah Housing Authority | Neah Bay | WA | 150,000
Menominee Indian Tribe of Wisconsin | Keshena | WI | 150,000
Ho-Chunk Nation | Black River Falls | WI | 126,626
Preservation Alliance of West Virginia | Charleston | WV | 150,000
Total |  |  | 24,590,272

[FR Doc. 04-1098 Filed 1-16-04; 8:45 am]

BILLING CODE 4210-29-P